FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 12, 2015.

A. Federal Reserve Bank of Richmond (Adam M. Drimer, Assistant Vice President) 701 East Byrd Street, Richmond, Virginia 23261-4528:

1. Richard T. Spurzem, Charlottesville, Virginia; to acquire voting shares of Blue Ridge Bankshares, Inc., and thereby indirectly acquire voting shares of Blue Ridge Bank, Inc., both in Luray, Virginia.

B. Federal Reserve Bank of St. Louis (Yvonne Sparks, Community Development Officer) P.O. Box 442, St. Louis, Missouri 63166-2034:

1. SABCO Irrevocable Stock Ownership Trust, with Guy Richard Smith and Raymond Tracy Fox as co-trustees, all of Hot Springs Arkansas; to acquire voting shares of Smith Associated Banking Corporation, Hot Springs, Arkansas, and thereby indirectly acquire voting shares of Bank of Salem, Salem, Arkansas, and Security Bank, Stephens, Arkansas.

C. Federal Reserve Bank of Kansas City (Dennis Denney, Assistant Vice President) 1 Memorial Drive, Kansas City, Missouri 64198-0001:

1. John Creighton, Longmont, Colorado, individually and as trustee of High Plains Banking Group, Inc. KSOP; T. Rick Newton and Frederick Newton, both of Snowmass, Colorado; Landon Newton, Somerville, Massachusetts; and Betty Mickey, Fort Collins, Colorado; all to become members of the Creighton Family Group acting in concert, to acquire voting shares of High Plains Banking Group, Inc., and thereby indirectly acquire voting shares of High Plains Bank, both in Flagler, Colorado.

Board of Governors of the Federal Reserve System, January 23, 2015.
Margaret McCloskey Shanks,
Deputy Secretary of the Board.

[FR Doc. 2015-01543 Filed 1-27-15; 8:45 am]

BILLING CODE 6210-01-P